OFFICE OF PERSONNEL MANAGEMENT

5 CFR Parts 210, 212, 213, 302, 432, 451, and 752

[Docket ID: OPM-2025-0004]

RIN 3206-AO80

Improving Performance, Accountability and Responsiveness in the Civil Service

AGENCY: Office of Personnel Management.

ACTION: Proposed rule; extension of comment period.

SUMMARY: On April 23, 2025, the Office of Personnel Management (OPM) published in the Federal Register a notice of proposed rulemaking to increase career employee accountability. The proposed rule invited the public to submit written comments beginning on the proposed rule publication date and ending on May 23, 2025. In response to requests for an extension of the comment period, OPM is extending the comment period to June 7, 2025.

DATES: The public comment period for the proposed rule published on April 23, 2025 (90 FR 17182), is extended. Comments must be received no later than June 7, 2025.

ADDRESSES: You may submit comments, identified by the docket number or Regulation Identifier Number (RIN) for this proposed rulemaking, by the following method:

Federal eRulemaking Portal: https://www.regulations.gov. Follow the instructions for sending comments.

All submissions must include the agency name and docket number or RIN for this Federal Register document. Please arrange and identify your comments about the regulatory text by subpart and section number. If your comments relate to the supplementary information, please reference the heading and page number in the supplementary section. All comments must be received by the end of the comment period for them to be considered. All comments and other submissions received generally will be posted on the internet at https://regulations.gov as they are received, without change, including any personal information provided. However, OPM retains discretion to redact personal or sensitive information, including but not limited to, personal or sensitive information pertaining to third parties.

As required by 5 U.S.C. 553(b)(4), a summary of this rule may be found in the docket for this rulemaking at www.regulations.gov.

FOR FURTHER INFORMATION CONTACT: Noah Peters, Senior Advisor to the Director, by email at employeeaccountability@opm.gov or by phone at (202) 606-2930.

SUPPLEMENTARY INFORMATION: On April 23, 2025, the Office of Personnel Management (OPM) published in the Federal Register a notice of proposed rulemaking titled “Improving Performance, Accountability and Responsiveness in the Civil Service” (see 90 FR 17182). The comment period on this proposed rule was originally scheduled to close May 23, 2025. OPM has received requests for additional time to review and comment on this proposed rule. OPM will be extending the comment period by 15 days. The public comment period will now end on June 7, 2025. Information about submitting comments is in the ADDRESSES section of this notice.

Office of Personnel Management
Jerson Matias,
Federal Register Liaison.

[FR Doc. 2025-09356 Filed 5-21-25; 8:45 am]

BILLING CODE 6325-39-P